DEPARTMENT OF THE INTERIOR

Bureau of Land Management

[CA-160-1220-PG]

Notice of Public Meeting, Central California Resources Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Resource Advisory Council (RAC) for Central California will meet as indicated below.

DATES: The meeting will be held Friday and Saturday, January 31, February 1 in the Arletta Douglas Room of the Holbrooke Hotel, 212 West Main Street, Grass Valley, California beginning at 8 a.m. both days. The agenda calls for an orientation session on Friday, and a field trip to the Yuba Goldfields on Saturday with a return to the meeting room for discussion. There will be a public comment period beginning at 3:30 p.m. on Friday.

FOR FURTHER INFORMATION CONTACT: Larry Mercer, Public Affairs Officer, Bureau of Land Management, 3801 Pegasus Drive, Bakersfield, CA 93308, telephone 661-391-6010.

SUPPLEMENTARY INFORMATION: The 12 member Central California Resource Advisory Council advises the Secretary of the Interior, through the Bureau of Land Management, on a variety of public land issues associated with public land management in Central California. At this meeting, topics to be discussed include:

Facilitated orientation and future planning for Council members.

The Yuba Goldfields area on the Yuba River, including issues of public access. All meetings are open to the public. The public may present written comments to the Council, and a time will be allocated for hearing public comments. Depending on the number of persons wishing to comment and the time available, the time for individual oral comments may be limited. Individuals who plan to attend and need special assistance such as sign language interpretation, tour transportation or other reasonable accommodations should contact the BLM as indicated above.

Dated: January 14, 2003.
Larry Mercer,
Public Affairs Officer.

[FR Doc. 03-1696 Filed 1-24-03; 8:45 am]

BILLING CODE 4310-40-M